DEPARTMENT OF HEALTH AND HUMAN SERVICES

Centers for Disease Control and Prevention

[Docket No. CDC-2022-0014]

Notice of Availability of the Final Supplemental Environmental Impact Statement

AGENCY: Centers for Disease Control and Prevention (CDC), Department of Health and Human Services (HHS).

ACTION: Notice.

SUMMARY: The Centers for Disease Control and Prevention (CDC) within the Department of Health and Human Services (HHS) announces the availability of the Final Supplemental Environmental Impact Statement (SEIS) for CDC's Roybal Campus in Atlanta, Georgia. The Final SEIS was prepared to address changes proposed since completing the 2014 Final Environmental Impact Statement (EIS) for the CDC Roybal Campus 2025 Master Plan (2014 Final EIS) and issuing a Record of Decision (ROD) dated November 7, 2014. This announcement follows the requirements of the National Environmental Policy Act (NEPA) as implemented by the Council on Environmental Quality (CEQ) regulations and HHS environmental procedures.

DATES: The Final SEIS will be available October 14, 2022.

FOR FURTHER INFORMATION CONTACT: Thayra Riley, NEPA Coordinator, Office of Safety, Security, and Asset Management, Centers for Disease Control and Prevention, 1600 Clifton Road NE, Mailstop H20-4, Atlanta, Georgia 30329. Email: cdc-roybalga-seis@cdc.gov. Telephone: 770-488-8170.

SUPPLEMENTARY INFORMATION: In accordance with NEPA as implemented by CEQ regulations (40 CFR 1507.3) and HHS environmental procedures, CDC prepared a Final SEIS to analyze the effects of additional proposed components that were not analyzed in the 2014 Final EIS. The potential impacts of construction and operation of these components on the natural and built environment were evaluated.

Alternatives Considered

CDC analyzed two alternatives in the Final SEIS: The Proposed Action (Alternative 1) and the No Action Alternative. Alternative 1 consists of the construction and operation of a Hospital, Medical, and Infectious Waste Incinerator (HMIWI) in a new laboratory building and the operation of two emergency standby power diesel generators. The construction of a new laboratory was included in the 2014 Final EIS and was not re-evaluated in the SEIS. The No Action Alternative consists of the construction of the new laboratory without the HMIWI and two emergency standby power generators.

The Final SEIS evaluates the environmental impacts that may result from Alternative 1 and the No Action Alternative on the following resource categories: air quality, climate change and sustainability, environmental justice, and hazardous/medical/infectious waste. The Final SEIS identifies measures to mitigate potential adverse impacts.

Public Involvement

On January 28, 2022, CDC published a Notice of Intent to prepare a SEIS in the Federal Register (87 FR 4603). CDC announced a Notice of Availability (NOA) of the Draft SEIS on July 8, 2022 (87 FR 40844) and the public comment period ended August 22, 2022. During the public comment period, a virtual public meeting was held on July 27, 2022. Two participants attended the meeting.

CDC received five public comments.

• An individual submitted two comments stating they did not agree with the spending associated with the project.

○ CDC acknowledges the comment.

• A civic organization submitted one comment asking about noise or odors associated with lab operations and the stringency of the Georgia Department of Natural Resources, Environmental Protection Department (EPD) rules for handling, treating, and disposing of infectious waste.

○ CDC's response is that noise and odors were determined not to be issues that needed to be included in the SEIS associated with the addition of a new HMIWI and two new emergency standby power generators. Noise levels will not be an issue and will be controlled/limited to levels below Occupational Safety and Health Administration criteria (60 dBA within 4 feet, which is a normal speaking level). No odors will be released from the new incinerator system during operations. The Georgia EPD rules for handling, treating, and disposing of infectious waste are sufficiently stringent and protective of the environment, workers, and public health. CDC has been operating other incinerators on site and the handling of solid waste, including hazardous and medical waste, will continue to comply with Georgia EPD rules and regulations.

• A community advisory group submitted a request for CDC to present an update on the SEIS during the group's September 20, 2022 meeting.

○ CDC declined the request and provided instructions to submit comments on the docket.

• An individual submitted questions about the air quality modeling and cumulative impact analysis.

○ For the analysis of the addition of the HMIWI and two emergency generators, CDC conducted a quantitative analysis of carbon monoxide based on the methodology used during the 2014 Final EIS. The SEIS states that further analysis of the criteria pollutants and hazardous air pollutants would be conducted to support the updated Title V operating permit that is required due to the addition of the HMIWI. Cumulative impacts for the overall implementation of the Roybal Campus 2025 Master Plan were included in the 2014 Final FEIS. Cumulative impacts were considered in the SEIS Air Quality and climate change analysis. Since there are no impacts to environmental justice and negligible impacts to hazardous, medical, infectious waste, these would not contribute to significant cumulative impacts.

CDC made minor revisions to the SEIS based on these comments. The comments and CDC's responses are included in Appendix A of the Final SEIS.

Availability of the Final SEIS: The Final SEIS is available in the Supplemental Materials tab of the docket found on the Federal eRulemaking Portal: https://www.regulations.gov, identified by Docket No. CDC-2022-0014.

The NOA of the Final SEIS has been provided to Federal, State, and local agencies and organizations via mail and electronic mail to the interested parties list. The public is being notified of the availability of the Final SEIS through this Federal Register publication and a notice published in The Atlanta Journal-Constitution. CDC will finalize a ROD no sooner than November 7, 2022.

Angela K. Oliver,
Executive Secretary, Centers for Disease Control and Prevention.

[FR Doc. 2022-22370 Filed 10-13-22; 8:45 am]

BILLING CODE 4163-18-P